DEPARTMENT OF COMMERCE

National Oceanic and Atmospheric Administration

RIN 0648-XD123

Takes of Marine Mammals Incidental to Specified Activities; Taking Marine Mammals Incidental to San Nicolas Island Roads and Airfield Repairs Project

AGENCY: National Marine Fisheries Service (NMFS), National Oceanic and Atmospheric Administration (NOAA), Commerce.

ACTION: Notice; proposed incidental harassment authorization; request for comments.

SUMMARY: NMFS has received an application from the Department of the Navy (Navy), Naval Base Ventura County (NBVC), California, for an Incidental Harassment Authorization (IHA) to take marine mammals, by harassment, incidental to the San Nicolas Island (SNI) roads and airfield repairs project. Pursuant to the Marine Mammal Protection Act (MMPA), NMFS is requesting comments on its proposal to issue an IHA to NBVC to incidentally take, by Level B harassment only, marine mammals during the specified activity.

DATES: Comments and information must be received no later than March 28, 2014.

ADDRESSES: Comments on the application should be addressed to Jolie Harrison, Supervisor, Incidental Take Program, Permits and Conservation Division, Office of Protected Resources, National Marine Fisheries Service, 1315 East-West Highway, Silver Spring, MD 20910. The mailbox address for providing email comments is ITP.Nachman@noaa.gov. NMFS is not responsible for email comments sent to addresses other than the one provided here. Comments sent via email, including all attachments, must not exceed a 25-megabyte file size.

Instructions: All comments received are a part of the public record and will generally be posted to http://www.nmfs.noaa.gov/pr/permits/incidental.htm without change. All Personal Identifying Information (e.g., name, address) voluntarily submitted by the commenter may be publicly accessible. Do not submit Confidential Business Information or otherwise sensitive or protected information.

An electronic copy of the application containing a list of the references used in this document and the Navy's 2012 Environmental Assessment (EA) may be obtained by writing to the address specified above, telephoning the contact listed below (see FOR FURTHER INFORMATION CONTACT), or visiting the internet at: http://www.nmfs.noaa.gov/pr/permits/incidental.htm. Documents cited in this notice may also be viewed, by appointment, during regular business hours, at the aforementioned address.

FOR FURTHER INFORMATION CONTACT: Candace Nachman, Office of Protected Resources, NMFS, (301) 427-8401.

SUPPLEMENTARY INFORMATION:

Background

Sections 101(a)(5)(A) and (D) of the MMPA (16 U.S.C. 1361 et seq.) direct the Secretary of Commerce to allow, upon request, the incidental, but not intentional, taking of small numbers of marine mammals by U.S. citizens who engage in a specified activity (other than commercial fishing) within a specified geographical region if certain findings are made and either regulations are issued or, if the taking is limited to harassment, a notice of a proposed authorization is provided to the public for review.

Authorization for incidental takings shall be granted if NMFS finds that the taking will have a negligible impact on the species or stock(s), will not have an unmitigable adverse impact on the availability of the species or stock(s) for subsistence uses (where relevant), and if the permissible methods of taking, other means of effecting the least practicable impact on the species or stock and its habitat, and requirements pertaining to the mitigation, monitoring and reporting of such takings are set forth. NMFS has defined “negligible impact” in 50 CFR 216.103 as “. . . an impact resulting from the specified activity that cannot be reasonably expected to, and is not reasonably likely to, adversely affect the species or stock through effects on annual rates of recruitment or survival.”

Except with respect to certain activities not pertinent here, the MMPA defines “harassment” as: “any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].”

Summary of Request

On October 23, 2013, we received an application from the Navy for the taking of marine mammals incidental to the SNI roads and airfield repairs project. NMFS determined that the application was adequate and complete on November 6, 2013.

The Navy proposes to repair roads and the airfield on SNI, California. The proposed activity would occur from August 1 through November 30, 2014, with two separate deliveries of materials to the island during this time period. Each delivery requires approximately 5 days to complete. The following specific aspects of the proposed activities are likely to result in the take of marine mammals: barge beach landings, offloading, and removal and construction activities to prepare for barge landings. Take, by Level B harassment only, of northern elephant seal (Mirounga angustirostris), California sea lion (Zalophus californianus), and Pacific harbor seal (Phoca vitulina richardsi) is anticipated to result from the specified activity.

Description of the Specified Activity

Overview

NBVC plans to perform a maintenance and mission-critical infrastructure project at SNI to repair the roads and airfield. The proposed action would repair up to 12.45 mi of roads and culverts during two phases and one million ft² of airfield surface, shoulders, and airfield culvert repair. The SNI roads and shoulder repairs will require approximately 43,500 tons of aggregate materials. Airfield repairs require approximately 151,500 tons of aggregate material. The required aggregate is not available on the island and must be delivered from the mainland. The pier at Daytona Beach is used for transfer of supplies to the island but is not designed to handle large volumes of heavy aggregate. The Navy, therefore, proposes to use barge beach landings on Daytona and Coast Guard Beaches for offloading materials and equipment needed to complete this maintenance and mission-critical infrastructure project. Aggregate would be shipped from the mainland U.S. to the off-shore area of SNI on a primary shipping barge (13,000-ton capacity). The aggregate would be transferred from the primary shipping barge to a smaller “tender” barge (2,000-ton capacity) that would land on the beach. Aggregate would be transferred from the shipping barge to the tender barge using a conveyor belt or loaders, then from the tender barge to dump trucks on shore using either loaders or conveyor belts. A typical barge landing operation includes: Re-grading the existing road from the beach; constructing a temporary ramp and berm on the beach; landing the barge; offloading the barge; removing the ramp and berm; and restoring the beach to its pre-barge landing condition.

The Navy identified the proposed work as critical to maintaining mission readiness: The current degraded road is a safety concern for ordnance and operations transport; culvert repairs are necessary to reduce erosion and sedimentation; and mission-critical repairs are required at the SNI runway that is currently degraded by sinkholes and surface deformations.

Dates and Duration

Up to four separate deliveries would occur each year for 5 years. One shipment of 13,000 tons of aggregate would require eight beach landings over 5 days (approximately two landings per day, 4 hours for each operation). Site preparation would take approximately 1 day, and the landings would occur over the remaining 4 days. Because both beaches are haul-out sites for California sea lions, harbor seals and northern elephant seals, beach landings would occur from August 1 through November 30, outside the breeding season when these species are present only sporadically, and in lower numbers than in other times of the year.

This IHA request is only for the period of August 1 through November 30, 2014. NBVC intends to submit an application requesting regulations and a Letter of Authorization to cover these and other activities for a 5-year period later in 2014. Table 1 outlines the proposed delivery schedule for this proposed project.

Table 1—Barge Delivery Summary Over the 5-Year Span of the Project
Project | Material required | Number of primary shipping barge deliveries | Estimated delivery schedule
Roads Repair (Phase I and Phase II) | 43,500 tons | * 3 | Year 1 | 2 × 13,000 tons.
|  |  | Year 2 | 1 × 8,100 tons.
|  |  | Year 3 | 1 × 9,400 tons.
Airfield repairs | 151,500 tons | ** 12 | Year 2 | 2 × 13,000 tons.
|  |  |  | 1 × 4,900 tons.
|  |  | Year 3 | 3 × 13,000 tons.
|  |  |  | 1 × 3,600 tons.
|  |  | Year 4 | 3 × 13,000 tons.
|  |  | Year 5 | 3 × 13,000 tons.
* Three primary barge shipments for roads repair includes two full 13,000 ton shipments, and two co-mingled shipments, shared with airfield aggregate material (8,100 tons in Year 2 and 9,400 tons in Year 3).
** Twelve primary barge shipments for airfield repairs includes eleven full 13,000 ton shipments, and two co-mingled shipments shared with road repair aggregate material (4,900 tons in Year 2 and 3,600 tons in Year 3).

Specified Geographic Region

SNI is the outermost of eight Channel Islands off the coast of southern California, 63 nautical miles south-southwest of Laguna Point at NBVC Point Mugu and 75 nautical miles southwest of Los Angeles (see Figure 1 in the IHA application). SNI is owned by the Navy and is under the jurisdiction of NBVC. The island is approximately 9 mi long and 3.6 mi wide. Access to the island by the public is strictly controlled for security reasons and to safeguard against potential hazards associated with military operations. The main support and operational facilities on SNI include an airfield runway and terminal, housing and administration facilities, a power plant, a fuel farm, a reverse osmosis potable water system, and a public works and transportation department.

Daytona Beach is a wide sandy beach at the south end of SNI, the most sheltered part of the island (see Figure 1 in the IHA application). Water depth and soft bottom conditions off-shore support barge anchoring and beach landings. Beach Road is an all-weather paved access road that terminates at Daytona pier and a staging area. The equipment staging area is paved and equipped with electric light poles and adequate space for pier offloads. The staging area is enclosed by k-rails that would be temporarily moved to allow access to the beach-landed barge. The Navy has made barge beach landings at Daytona Beach many times in the past.

Coast Guard Beach is a sandy beach in a relatively sheltered part of the island at the east side of SNI, accessible by Beach Road (see Figure 1 in the IHA application). The Navy has used this site successfully in the past for barge deliveries. On Coast Guard Beach, there is approximately 300 ft from the access road to the high tide line. Coast Guard Beach has a gentler slope than Daytona Beach. The nearshore bottom is soft, and water depths of 2 to 5 ft are suitable for beach landings. Existing moorings in the area may potentially be used as anchorage points for the primary shipping barge. A short (0.1 mi) unpaved road that connects Coast Guard Beach to the proposed asphalt batch plant site would require re-grading to facilitate materials transport. To facilitate re-grading the access road, approximately 400 yd³ of dirt would be used from the Former Borrow Pit, and additional material would be sourced from the Monroe Borrow Pit if necessary. A shallow surface scrape of six inches would occur across the Former Borrow Pit site to collect material for the access road. Re-grading would provide access widths from 30 to 12.5 ft wide and a smoother surface for hauling.

Detailed Description of Activities

The proposed action would repair up to 12.45 mi of roads and culverts during two phases, and one million ft² of airfield surface, shoulders, and airfield culvert repair. The SNI roads and shoulder repairs will require approximately 43,500 tons of aggregate materials. Airfield repairs require approximately 151,500 tons of aggregate material. The required aggregate is not available on the island and must be delivered from the mainland. The pier at Daytona Beach is used for transfer of supplies to the island but is not designed to handle large volumes of heavy aggregate. The Navy, therefore, proposes to use barge beach landings on Daytona and Coast Guard Beaches for offloading materials and equipment needed to complete this maintenance and mission-critical infrastructure project. Aggregate would be shipped from the mainland U.S. to the off-shore area of SNI on a primary shipping barge (13,000-ton capacity). The aggregate would be transferred from the primary shipping barge to a smaller “tender” barge (2,000-ton capacity) that would land on the beach. Aggregate would be transferred from the shipping barge to the tender barge using a conveyor belt or loaders, then from the tender barge to dump trucks on shore using either loaders or conveyor belts. Best management practices will be instituted to prevent spills into the ocean during the aggregate offloading process.

The Navy proposes to land the tender barges at either Daytona Beach or Coast Guard Beach, depending on wind and swell conditions at the time of the landing. If conditions are favorable to land at either beach the Navy will select the beach with fewer pinnipeds and western snowy plovers. Up to four separate deliveries would occur each year for 5 years. One shipment of 13,000 tons of aggregate would require eight beach landings over 5 days (approximately two landings per day, 4 hours for each operation).

The delivery process consists of:

Site Preparation: Site preparation would begin the day before the tender barge arrives. An authorized biologist would move any harbor seals, sea lions, or elephant seals in the immediate area. Elephant seals may require active displacement in the work zone, which would be done by an authorized biologist. A biologist would remain onsite if any marine mammals are to be displaced during barge operations. Pinnipeds will only be displaced if they are within the heavy equipment work zone, which extends 200 feet on both sides of the landing site. A temporary sand ramp would be configured using bulldozers to push, grade, and compact sand perpendicular to the shoreline. The ramp would require moving about 20 yd³ of beach sand at Daytona Beach, or a smaller volume of sand at Coast Guard Beach because of its more gradual slope. Sand would be moved only above the high tide line. The amount of sand to be moved is a function of the beach slope for each landing site. Two tractors would be positioned 100 ft on either side of the landing area before the tender barge arrives to provide stable anchorage for the tender barge. A set of chains and cables would be attached to each tractor to secure the tender barge.

Barge Delivery: The primary shipping barge would drop anchor approximately 650 ft off-shore in about 24 ft of water at Coast Guard Beach and 45 ft of water at Daytona Beach. The tender barge would tie off to the primary shipping barge while the materials are being transferred. Materials would be offloaded to the tender barge using a conveyor belt or loader. Best Management Practices will be in place to minimize spillage into the ocean.

Barge Beach Landing: Once the tender barge is loaded with approximately 2,000 tons from the primary shipping barge, it would cast off and the tug boat would push it onto the beach. The tender barge would be tethered to each of the two bulldozers, positioned approximately 200 ft apart on the beach. Hydraulic winches on the tender barge would tighten the chains and secure the barge. Once the tender barge is stabilized, fiberglass matting may be laid over the temporary sand ramp, if necessary, to provide a stable surface and allow traction for vehicles during loading and unloading. Previous material transfers onto the beaches have not required matting due to stable sand surfaces. The bulldozers at the barge and ramp interface would ensure that the anchoring remains stable during unloading.

Offloading: Aggregate would be offloaded from the tender barge either by loaders that load dump trucks or by a conveyor belt directly from the barge to dump trucks. Super10 truck and truck tractor/trailer support vehicles would be transported to SNI before the material is delivered using the Navy supply barge and Navy pier.

Barge Removal: After all offloading operations are complete, crew members would remove any fiberglass matting from the temporary ramp and the bulldozers would redistribute the sand above the high-tide line and contour the beach to its previous topography. The anchoring cables and chains would be released and stored off site for future use. The tug would pull the barge away from the beach.

Noise generated at the temporary asphalt batch plant that would be located approximately 300 ft uphill from Coast Guard Beach would be approximately 66.5 decibels (dB) at Coast Guard Beach. The beach is lower than the temporary asphalt batch plant, and noise from the plant would likely be inaudible at this distance over ambient sound at the surf zone. Given the low level of noise being generated and the distance from the beach, noise from the asphalt batch plant would not be expected to adversely affect pinnipeds at Coast Guard Beach.

The barge landing and materials offload could temporarily displace marine mammals from their onshore haulouts, resulting in their movement into the water or down-beach. During barge landings, marine mammals may avoid the proposed project area and haul out at other beach areas. During barge landings and material off-loadings, the Navy biologist or qualified project biologist will monitor and displace pinnipeds from the landing site as necessary for the safety of the marine mammals and construction workers. Temporary barriers will be used, if necessary, to keep the displaced pinnipeds from re-entering the area. No marine mammal mortalities or injuries are expected from the activity.

Description of Marine Mammals in the Area of the Specified Activity

Three species of pinnipeds occur regularly on SNI: Northern elephant seal; California sea lion; and Pacific harbor seal. These species are protected under the MMPA and are not listed under the Endangered Species Act (ESA). These three species are expected in small numbers on Daytona and Coast Guard Beaches from August 1 through November 30. One northern fur seal (Callorhinus ursinus) has been seen hauling out with a pup on SNI the past few years (G. Smith, Navy biologist, pers. comm.); however, the sightings are infrequent and not expected to occur within the proposed activity area. Single individuals of Guadalupe fur seal (Arctocephalus townsendi) have been intermittently observed over the last few years hauled out along the southwest portion of SNI. Records indicate that they are not likely to occur on the eastern portion of SNI, where the proposed activities would occur. Therefore, these two species are not considered further in this notice.

There are not expected to be any “takes” of cetaceans due to their rare occurrence of the inshore waters at SNI. Any cetaceans or marine mammals in the water surrounding barge landing areas would not be affected by the activities, since the distance from the project site precludes the potential for visual disturbance. A small translocated population of approximately 50 southern sea otters (Enhydra lutris nereis) occurs on SNI. This species is managed by the U.S. Fish and Wildlife Service and is not considered further in this proposed IHA notice.

Table 2 in this document outlines the status, occurrence, seasonality, and abundance of the three marine mammal species most likely to occur in the proposed project area. The Navy's IHA application contains additional detail on the presence and life history of these species. More information can also be found in the NMFS Stock Assessment Report available online at: http://www.nmfs.noaa.gov/pr/sars/pdf/po2012.pdf. A short summary of the distribution, seasonal distribution, and life history information is provided next.

Table 2—ESA Status, Occurrence, Seasonality in the Project Area, and Abundance of the Species Most Likely To Occur in the Proposed Project Area
Common name | Scientific name | Status | Occurrence | Seasonality | Abundance
Northern elephant seal | Mirounga angustirostris | NL | Common | Mostly December-mid-May | 124,000
California sea lion | Zalophus californianus | NL | Common | Year round | 296,750
Pacific harbor seal | Phoca vitulina richardsi | NL | Occasional to common | Mostly February-June | 30,196
NL = Not listed under the ESA.

Northern Elephant Seal

SNI is the second largest elephant seal rookery and hauling ground in the Southern California Bight (Lowry, 2002). Each year, approximately 30% (23,000 individuals) of the elephant seals hauling out on all California shorelines haul out at SNI on Daytona Beach and Coast Guard Beach. Currently, elephant seals haul out at Daytona and Coast Guard barge landing areas from December through mid-May. This time frame encompasses the breeding season and the female and juvenile molting period. Adult males have been known to haul out at both Daytona and Coast Guard Beaches through August (Lowry, 2002). In 2002, the estimated number of individuals at Daytona Beach was more than 2,000 (U.S. Navy, 2002).

In general, northern elephant seals primarily breed and give birth on off-shore islands, including the Channel Islands, from December to March (Stewart and Huber, 1993; Stewart et al., 1994); adults return between March and August to molt. The elephant seal breeding season peaks in late January to early February and molting peaks in late April to early May on SNI (Odell, 1974; Stewart and Yochem, 1984). After they spend time at sea to feed, females and juveniles haul out between March and May, with peak occurrences in April. Adult males tend to haul out and molt between June and August, with peak numbers in July.

In the late 1980s, elephant seals began to use west Daytona Beach (outside of the beach landing area) as a pupping area and have gradually moved eastward along the beach over the years. In 1988, 144 elephant seal pups were born at the west end of Daytona Beach. This number has increased steadily since then, reaching a total of 1,000 pups born at Daytona Beach in 1995 (Lowry et al., 1996).

Daytona Beach had a two year average, from 2005 and 2010, of 1,787 elephant seals. Coast Guard Beach had an average of 1,895 elephant seals from the same two years (Lowry Unpublished Data). The average total of elephant seals for SNI from 2005 and 2010 was 14,750 (Lowry Unpublished Data). These numbers represent peak season counts and as such, are an overestimate for the proposed fall operations. Additionally, the Lowry survey counts were conducted over a larger area than the proposed action area at both Daytona and Coast Guard Beach (Areas “C” and “Q” in Figure 3 in the IHA application).

This species is not listed under the ESA and is not considered depleted under the MMPA. Based on trends in pup counts, northern elephant seal colonies were continuing to grow in California through 2005 (Carretta et al., 2013).

California Sea Lion

The California sea lion is the most common pinniped at SNI. They haul out at many sites along southern and western SNI, including Daytona Beach and Coast Guard Beach. They haul out on SNI beaches to mate and pup beginning in late May and continuing through July. Females nurse their pups for 8 months, alternating between nursing the pups on land and foraging at sea. During the molting period, they haul out in September, and smaller numbers of females and juveniles haul out intermittently throughout the year.

The SNI population has ranged from 43,000 to 57,000 individuals since 2001. Pup production between 2003 and 2008 ranged from 25,000 to 29,000 (U.S. Navy, 2010). Large numbers of sea lions haul out and pup 0.5 mi west of the barge landing site at Daytona Beach (U.S. Navy, 2002). Mixed age groups intermittently haul out in the vicinity of the Daytona Beach barge landing area throughout the year, and bachelor bulls haul out at the barge landing site during June and July (Smith, 2005). In 2002, the number of California sea lions on Daytona Beach was estimated to be about 500 (U.S. Navy, 2002).

SNI had an average total of 51,797 California sea lions from 2004 to 2008 (Lowry Unpublished Data). Daytona Beach, between 2004 and 2008, had an average of 1,325 California sea lions while Coast Guard Beach had an average of 1,380 (Lowry Unpublished Data). These numbers represent peak season counts on Daytona and Coast Guard Beaches and as such, are an overestimate for the proposed fall operations. Additionally, the survey counts were conducted over a larger area than the proposed action area at both Daytona and Coast Guard Beach (see Figure 3 in the IHA application).

This species is not listed under the ESA and is not considered depleted under the MMPA. Based on trends in pup counts from non-El Nino years from 1975-2005, the population appears to be increasing.

Pacific Harbor Seal

Most harbor seals on SNI haul out at several specific, traditionally used sandy, cobble, and gravel beaches. Harbor seals are very rare at the barge landing area at Daytona Beach (Smith, 2005). However, West Coast Guard Beach is now the largest regularly used haul out on SNI (G. Smith, personal communication). Peak counts on SNI are about 450 seals, representing about 2 percent of the California stock.

Harbor seal haul out sites are distributed along mainland California and on off-shore islands, including the Channel Islands. Pupping occurs on beaches from late February through April on SNI, with nursing of pups extending into May. Harbor seals are abundant in late May and early June while they are molting and are least abundant in winter (Stewart and Yochem, 1984). For the years 2004, 2007 and 2009, Daytona Beach had an average of 69 harbor seals and Coast Guard Beach had an average of 201 (Lowry Unpublished Data). The average total for SNI for 2004, 2007 and 2009 was 800 harbor seals (Lowry Unpublished Data). These numbers represent peak season counts and as such, are an overestimate for the proposed fall operations. Additionally, the survey counts were conducted over a larger area than the proposed action area at both Daytona and Coast Guard Beach (see Figure 3 in the IHA application).

This species is not listed under the ESA and is not considered depleted under the MMPA. Counts of harbor seals in California increased from 1981 to 2004, and the population on the Channel Islands seems to have stabilized (Carretta et al., 2013).

Potential Effects of the Specified Activity on Marine Mammals

This section includes a summary and discussion of the ways that the types of stressors associated with the specified activity (e.g., barge beach landings, offloading, and barge removal) have been observed to or are thought to impact marine mammals. This section may include a discussion of known effects that do not rise to the level of an MMPA take (for example, with acoustics, we may include a discussion of studies that showed animals not reacting at all to sound or exhibiting barely measurable avoidance). The discussion may also include reactions that we consider to rise to the level of a take and those that we do not consider to rise to the level of a take. This section is intended as a background of potential effects and does not consider either the specific manner in which this activity will be carried out or the mitigation that will be implemented or how either of those will shape the anticipated impacts from this specific activity. The “Estimated Take by Incidental Harassment” section later in this document will include a quantitative analysis of the number of individuals that are expected to be taken by this activity. The “Negligible Impact Analysis” section will include the analysis of how this specific activity will impact marine mammals and will consider the content of this section, the “Estimated Take by Incidental Harassment” section, the “Proposed Mitigation” section, and the “Anticipated Effects on Marine Mammal Habitat” section to draw conclusions regarding the likely impacts of this activity on the reproductive success or survivorship of individuals and from that on the affected marine mammal populations or stocks.

The majority of impacts are likely to occur from the presence of personnel and equipment during the proposed activities. Barge beach landings and associated construction could affect pinnipeds hauled out at Daytona and Coast Guard beaches in two main ways:

1. Potential displacement of haul out areas at the barge landing site; and

2. Potential impacts of sound associated with barge landing and construction.

The Navy historically has had to displace pinnipeds from Daytona Beach and Coast Guard Beach during past barge landings and during construction of the pier at Daytona Beach (in 2005), and during repairs of the water system at Coast Guard Beach (in 2005 and 2006). Pinniped populations at Daytona Beach increased dramatically during historical barge beach landings (Smith, 2005).

According to pinniped displacement reports from 2003 to 2006, individual marine mammals hauling out on Daytona Beach during barge beach landings and pier construction appeared temporarily affected by the associated sound and presence of humans and equipment. The steady increase of pinniped populations at Daytona Beach throughout the history of barge beach landings before construction of the pier and during construction of the pier, suggests that the animals are not adversely affected by these activities. Like at Daytona Beach, marine mammals hauling out on Coast Guard Beach during repairs of the water system did not appear to be affected by the associated sound and presence of humans and equipment. Typical responses to displacement included increased alertness, raising of the head, and movement laterally along the beach or in the direction of the water (2006 displacement letter from Grace Smith to Rod McInnis/NMFS). The continued use of Coast Guard Beach by elephant seals and sea lions suggests that the pinniped populations were not adversely affected by these activities. The barge landings are not expected to affect pups or pinniped breeding behavior because beach landings would only take place from August 1 to November 30, outside the breeding season.

It may be necessary, for authorized biologists to move pinnipeds, if present, before the barge performs a beach landing on SNI. While barges transfer material off-shore, it is not anticipated that pinnipeds will exhibit startle responses or result in stampedes, as barges may be visible but are far enough off-shore to not cause a behavioral reaction.

It is anticipated that marine mammals will move to other available beaches and haulouts on SNI, away from the barge beach landings at Daytona or Coast Guard beaches. It is unlikely that pinnipeds will abandon these haulouts permanently, as noted by the earlier presented information.

Acoustic impacts, such as hearing impairment are not anticipated, as equipment is located far enough away from pinnipeds, sound levels will not occur at injurious levels.

Anticipated Effects on Marine Mammal Habitat

No critical habitat exists in the area of the proposed activities. During the period of the proposed activity, marine mammals may use various haul-outs around the barge landings and around SNI as places to rest and molt. The pinnipeds do not feed when hauled out. CA sea lions and elephant seals displaced into water usually move down-beach and haul out farther away from activity, while harbor seals will most likely stay in the water (G. Smith, personal communication). Therefore it is not expected that the barge activities will have any impact on the food or feeding success of the marine mammals. Although breeding occurs on SNI, the project dates have been planned to avoid the breeding/pupping season.

The sandy bottom would be disturbed offshore when the shipping barge dropped anchors and when the tender barge landed on the beach. Contact with the seafloor would temporarily increase turbidity, but no long-term adverse effects would result. Turbidity events would be limited to the duration of barge landing and offload.

The Navy anticipates and NMFS agrees that there will be no loss or permanent modification of the habitat used by marine mammal populations that haul-out in the barge landing areas. Temporary sand ramps would be constructed at Daytona and Coast Guard beaches to allow for transfer of material from the barge to dump trucks on the beach. Additionally, two tractors would be positioned on either side of the landing area before the tender barge arrives to provide stable anchorage for the tender barge. The area of the temporary sand ramps would be re-shaped on completion of each shipping barge offload, at the end of the 5 day period. Disturbance to marine mammal habitat would be only temporary. Because impacts are anticipated to be temporary, such that conditions will return to pre-activity condition in a short amount of time, and food sources will not be impacted, the proposed activity is not expected to cause significant or long-term consequences for individual marine mammals or their populations.

Proposed Mitigation

In order to issue an incidental take authorization (ITA) under section 101(a)(5)(D) of the MMPA, NMFS must set forth the permissible methods of taking pursuant to such activity, and other means of effecting the least practicable impact on such species or stock and its habitat, paying particular attention to rookeries, mating grounds, and areas of similar significance, and on the availability of such species or stock for taking for certain subsistence uses (where relevant). Later in this document in the “Proposed Incidental Harassment Authorization” section, NMFS lays out the proposed conditions for review, as they would appear in the final IHA (if issued).

Navy Proposed Mitigation Measures

In the IHA application, the Navy proposed a variety of measures, which are designed to reduce the level of disturbance for marine mammals that might be hauled out near the proposed barge landing sites. Additionally, all operations will be coordinated with the NBVC Point Mugu Environmental Division. The proposed mitigation measures include:

• All construction activity will take place within the proposed action footprint. Contractors will be provided with maps showing the centerlines and limits of surveys that were used for the environmental analyses in the final EA prepared by the Navy for this project (U.S. Navy, 2012) and informed that construction activity shall be confined to those corridors. Stakes will be used to delineate heavy equipment work and driving zones. Maps will include the locations of U.S. Army Corps of Engineers jurisdictional waters.

• All construction personnel must attend a mandatory environmental briefing at the start of the work day for work to be performed in sensitive habitats, and personnel attendance must be documented. For work in non-sensitive habitats, environmental briefings will occur weekly or as needed. Federal regulations regarding protected biological species must be emphasized, along with the importance of honoring environmental closure areas. The Environmental briefing would be given by Naval Facilities Engineering Command (NAVFAC) Southwest and NBVC personnel or the project biologist before work begins. If the training is given by the project biologist, then NAVFAC Southwest or NBVC staff would brief the project biologist, and the biologist would brief the crew on the resources and avoidance and compensation measures involved in the project. Environmental training will include a description of sensitive species and habitats potentially on or near the project site, and the surrounding habitat; details on each species' habitat requirements; the protective measures to be implemented for each species; and the responsibilities of the project biologist and of those on site to protect biological resources. The training will describe the requirements and boundaries of the project, the importance of complying with compensation measures, and the requirements for reporting non-compliance and any resolution methods. Training will provide information on and legal consequences of the potential effects of trash, trespassing, and harassing or harming designated sensitive habitat areas and species in or outside of the project footprint.

• Construction equipment will be inspected before mobilization to ensure no pinnipeds are under or near equipment.

• During barge landings and offloadings, the Navy biologist or qualified project biologist will displace pinnipeds from the landing site as necessary for the safety of the marine mammals and construction workers. Temporary barriers will be used, if necessary, to keep the displaced pinnipeds from re-entering the area. This effort will greatly minimize the potential for pinnipeds to be affected by project activities.

• No oil, fuel or chemicals will be allowed to discharged to waters of the state. Vessels will be equipped with spill kits and cleanup materials, and operators will be trained in responding to an accidental release of oil, fuel, or chemicals. Offloading equipment will be checked for leaks at the start of beach grading and aggregate offloading each day.

• Measures will be taken to prevent spillage of aggregate during the barge to barge transfer process. Measures may include but are not limited to, the use of a tarp or other barrier between the two barges, to capture spillage.

NMFS Proposed Mitigation Measures

In addition to the mitigation measures proposed by the Navy in the IHA application, NMFS proposes to include the following mitigation measures:

• Displacement must be conducted in such a way as to avoid stampedes. Approach of pinnipeds must be conducted gradually.

• Displacement or flushing of pinnipeds should be avoided, whenever possible, if dependent pups are present.

• The Navy will suspend activities immediately if an injured marine mammal is found in the vicinity of the proposed activity area and the proposed activities could aggravate its condition further. The incident must be reported to NMFS immediately.

Mitigation Conclusions

NMFS has carefully evaluated the Navy's proposed mitigation measures and considered a range of other measures in the context of ensuring that NMFS prescribes the means of effecting the least practicable impact on the affected marine mammal species and stocks and their habitat. Our evaluation of potential measures included consideration of the following factors in relation to one another:

• The manner in which, and the degree to which, the successful implementation of the measures are expected to minimize adverse impacts to marine mammals;

• The proven or likely efficacy of the specific measure to minimize adverse impacts as planned; and

• The practicability of the measure for applicant implementation.

Any mitigation measure(s) prescribed by NMFS should be able to accomplish, have a reasonable likelihood of accomplishing (based on current science), or contribute to the accomplishment of one or more of the general goals listed below:

1. Avoidance or minimization of injury or death of marine mammals wherever possible (goals 2, 3, and 4 may contribute to this goal).

2. A reduction in the numbers of marine mammals (total number or number at biologically important time or location) exposed to activities expected to result in the take of marine mammals (this goal may contribute to 1, above, or to reducing harassment takes only).

3. A reduction in the number of times (total number or number at biologically important time or location) individuals would be exposed to activities expected to result in the take of marine mammals (this goal may contribute to 1, above, or to reducing harassment takes only).

4. A reduction in the intensity of exposures (either total number or number at biologically important time or location) to activities expected to result in the take of marine mammals (this goal may contribute to 1, above, or to reducing the severity of harassment takes only).

5. Avoidance or minimization of adverse effects to marine mammal habitat, paying special attention to the food base, activities that block or limit passage to or from biologically important areas, permanent destruction of habitat, or temporary destruction/disturbance of habitat during a biologically important time.

6. For monitoring directly related to mitigation—an increase in the probability of detecting marine mammals, thus allowing for more effective implementation of the mitigation.

Based on our evaluation of the applicant's proposed measures, as well as other measures considered by NMFS, NMFS has preliminarily determined that the proposed mitigation measures provide the means of effecting the least practicable impact on marine mammals species or stocks and their habitat, paying particular attention to rookeries, mating grounds, and areas of similar significance.

Proposed Monitoring and Reporting

In order to issue an ITA for an activity, section 101(a)(5)(D) of the MMPA states that NMFS must set forth “requirements pertaining to the monitoring and reporting of such taking”. The MMPA implementing regulations at 50 CFR 216.104(a)(13) indicate that requests for ITAs must include the suggested means of accomplishing the necessary monitoring and reporting that will result in increased knowledge of the species and of the level of taking or impacts on populations of marine mammals that are expected to be present in the proposed action area. The Navy submitted a marine mammal monitoring plan as part of the IHA application. It can be found in Sections X and XII of the application. The plan may be modified or supplemented based on comments or new information received from the public during the public comment period.

Monitoring measures prescribed by NMFS should accomplish one or more of the following general goals:

1. An increase in the probability of detecting marine mammals, both within the mitigation zone (thus allowing for more effective implementation of the mitigation) and in general to generate more data to contribute to the analyses mentioned below;

2. An increase in our understanding of how many marine mammals are likely to be exposed to levels of active seismic airguns that we associate with specific adverse effects, such as behavioral harassment, TTS, or PTS;

3. An increase in our understanding of how marine mammals respond to active seismic airguns or other stimuli expected to result in take and how anticipated adverse effects on individuals (in different ways and to varying degrees) may impact the population, species, or stock (specifically through effects on annual rates of recruitment or survival) through any of the following methods:

• Behavioral observations in the presence of active seismic operations compared to observations in the absence of active seismic airguns (need to be able to accurately predict received level and report bathymetric conditions, distance from source, and other pertinent information);

• Physiological measurements in the presence of active seismic airgun operations compared to observations in the absence of seismic airgun operations (need to be able to accurately predict received level and report bathymetric conditions, distance from source, and other pertinent information); and

• Distribution and/or abundance comparisons in times or areas with concentrated active seismic airgun operations versus times or areas without active airgun operations.

4. An increased knowledge of the affected species; and

5. An increase in our understanding of the effectiveness of certain mitigation and monitoring measures.

Proposed Monitoring Measures

The Navy biologist will monitor pinniped reactions to beach barge landings to ensure their protection and project compliance with the MMPA, and to ensure no Level A take occurs. The project biologist will monitor heavy equipment operation on the beach, as needed, to ensure compliance with compensation measures and will keep the project engineer, NAVFAC Southwest, and NBVC informed about construction that may threaten significant biological resources. The project biologist will record activities daily and provide electronic versions of biological monitoring reports at least weekly to NAVFAC Southwest and NBVC. The project biologist will be available to monitor construction activities to ensure compliance with sensitive biological resource avoidance and minimization measures, including implementation of specific measures for protection of marine mammals. The biologist will: (1) Ensure impacts on sensitive resources are minimized, (2) educate workers about sensitive habitats and how to implement avoidance and minimization measures, and (3) attend road repair-related meetings as needed.

Additionally, the Navy will implement the following three objectives from the 2010 Integrated Natural Resources Management Plan for NVBC, San Nicolas Island, California (INRMP).

1. Continue to monitor marine mammal populations and evaluate interactions related to island activities.

2. Monitor and protect island-wide pinniped breeding and haul-out sites.

3. Maintain adaptive management strategies to address complex issues related to marine mammal resource conflicts and occurrence.

More information regarding the INRMP and these monitoring goals can be found in the Navy's IHA application (see ADDRESSES).

Reporting Measures

A draft final report must be submitted to NMFS Office of Protected Resources within 90 days after the conclusion of the project. The report will include a summary of the information gathered pursuant to the monitoring requirements set forth in the IHA. The report must also summarize the results of the activities, marine mammal behavioral observations, and the estimated number of marine mammal takes. A final report must be submitted to the Director of the NMFS Office of Protected Resources and to the NMFS West Coast Regional Administrator within 30 days after receiving comments from NMFS on the draft final report. If no comments are received from NMFS, the draft final report will be considered to be the final report.

Estimated Take by Incidental Harassment

Except with respect to certain activities not pertinent here, the MMPA defines “harassment” as: any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment]. Only take by Level B behavioral harassment is anticipated as a result of the proposed roads and airfield repairs project. The barge landing and materials offload could temporarily displace marine mammals from their onshore haulouts, resulting in their movement into the water or down-beach. During barge landings, marine mammals may avoid the proposed project area and haul out at other beach areas.

The Navy requests authorization to take three marine mammal species by Level B (behavioral) harassment. These three marine mammal species are: Pacific harbor seal; California sea lion; and northern elephant seal.

Navy biologists conducted surveys at Daytona and Coast Guard beaches in October and November 2011 to count pinniped presence on SNI. These results have been used to help estimate the numbers of animals that may be taken by harassment during the proposed roads and airfield repairs project. Tables 3 through 5 in this document (and Tables 2 through 4 in the IHA application) outline the data collected during these surveys.

Table 3—Fall 2011 Survey Results of Elephant Seals
Survey date, 2011 | Coast Guard Beach: East/brine pond | Coast Guard Beach: Coast Guard Beach | Coast Guard Beach: Former borrow pit | Daytona Beach: West | Daytona Beach: East of pier | Daytona Beach: West of pier
Oct 20 | N/S | N/S | 0 | N/S | N/S | N/S
Oct 25 | N/S | N/S | 2 subadults | N/S | 0 | 3 subadults
Oct 27 | 23 juveniles 2 females | 0 | 2 juveniles 2 females | N/S | 1 juvenile | 0
Nov 1 | 0 | N/S | 1 individual | ~60 mixed pinnipeds | 0 | 0
Nov 3 | N/S | N/S | 2 subadults | N/S | 0 | 0
Nov 7 | N/S | N/S | 10 individuals | N/S | 0 | 0
Nov 8 | N/S | 0 | 2 individuals | N/S | 0 | 0
Notes: N/S Not surveyed

Table 4—Fall 2011 Survey Results of California Sea Lions
Survey date, 2011 | Coast Guard Beach: East/brine pond | Coast Guard Beach: Coast Guard Beach | Coast Guard Beach: Former borrow pit | Daytona Beach: West | Daytona Beach: East of pier | Daytona Beach: West of pier
Oct 20 | N/S | N/S | 0 | N/S | N/S | N/S
Oct 25 | N/S | N/S | 0 | N/S | 0 | 1 juvenile
Oct 27 | 1 female | 1 juvenile | 1 juvenile | N/S | 0 | 0
Nov 1 | 0 | N/S | 0 | ~60 mixed pinnipeds | 0 | 0
Nov 3 | N/S | N/S | 0 | N/S | 0 | 1 subadult male
Nov 7 | N/S | N/S | 40 individuals | N/S | 0 | 0
Nov 8 | N/S | 0 | 30 individuals | N/S | 0 | 0
Notes: N/S Not surveyed

Table 5—Fall 2011 Survey Results of Harbor Seals
Survey date, 2011 | Coast Guard Beach: East/brine pond | Coast Guard Beach: Coast Guard Beach | Coast Guard Beach: Former borrow pit | Daytona Beach: West | Daytona Beach: East of pier | Daytona Beach: West of pier
Oct 20 | N/S | N/S | 0 | N/S | N/S | N/S
Oct 25 | N/S | N/S | 0 | N/S | 0 | 0
Oct 27 | 0 | 0 | 0 | N/S | 0 | 0
Nov 1 | 0 | N/S | 0 | ~60 mixed pinnipeds | 0 | 22 individuals
Nov 3 | N/S | N/S | 0 | N/S | 0 | 0
Nov 7 | N/S | N/S | 20 individuals | N/S | 0 | 0
Nov 8 | N/S | 0 | 10 individuals | N/S | 0 | 0
Notes: N/S Not surveyed

During the first year of this proposed project (August through November 2014), the Navy estimates that two shipments and beach preparations will occur. This will require a total of 10 days for site preparation and offloading operations. Based on the survey data collected in 2011 and the number of days of activities, the Navy estimates that no more than 50 harbor seal displacements will occur each day with the potential for take to be higher in August and lower in November when harbor seal numbers are very low on SNI (Stewart and Yochem, 1984). It is estimated that 75 sea lion displacements will occur each day, but haul-out numbers at Coast Guard Beach are intermittent in fall. It is estimated that 25 elephant seal displacements will occur each day with numbers increasing in October and November. Estimates include displacements during site preparation and off-loading. These numbers will likely include the displacement of returning individuals, such as elephant seals that will likely move back into the hazard area and have to be displaced multiple times. Table 6 presents the numbers of estimated takes by Level B (behavioral) harassment, the abundance of the stocks, the percentage of the stock potentially affected, and the population trend for each species or stock.

Common species name | Estimated take by level B harassment | Abundance of stock | Percentage of stock potentially affected | Population trend
Northern elephant seal | 250 | 124,000 | 0.2 | Increasing
California sea lion | 750 | 296,750 | 0.3 | Increasing
Pacific harbor seal | 500 | 30,196 | 1.7 | Stable

Analysis and Preliminary Determinations

Negligible Impact

Negligible impact is “an impact resulting from the specified activity that cannot be reasonably expected to, and is not reasonably likely to, adversely affect the species or stock through effects on annual rates of recruitment or survival” (50 CFR 216.103). A negligible impact finding is based on the lack of likely adverse effects on annual rates of recruitment or survival (i.e., population-level effects). An estimate of the number of Level B harassment takes, alone, is not enough information on which to base an impact determination. In addition to considering estimates of the number of marine mammals that might be “taken” through behavioral harassment, NMFS must consider other factors, such as the likely nature of any responses (their intensity, duration, etc.), the context of any responses (critical reproductive time or location, feeding, migration, etc.), as well as the number and nature of estimated Level A harassment takes, the number of estimated mortalities, and effects on habitat.

These activities are anticipated to result in Level B harassment of hauled out pinnipeds in the form of displacement or behavioral disturbance. These activities are not anticipated to result in injury, serious injury, or mortality of any marine mammal species and none is proposed to be authorized. The proposed activities would only occur twice in a 4-month period, and each time, activities would only occur for 5 consecutive days. Therefore, over 4 months, activities would only occur for 10 days between August 1 and November 30.

None of the species for which take is proposed to be authorized are listed as threatened or endangered under the ESA or as depleted under the MMPA. No critical habitat exists for these species. While certain beaches and haulouts on SNI have been used for mating, breeding, and pupping, the project dates have been selected to avoid these sensitive time periods.

Based on the analysis contained herein of the likely effects of the specified activity on marine mammals and their habitat, and taking into consideration the implementation of the proposed monitoring and mitigation measures, NMFS preliminarily finds that the total marine mammal take from the Navy's proposed roads and airfield repairs project will have a negligible impact on the affected marine mammal species or stocks.

Small Numbers

Based on survey counts of marine mammals anticipated to be present at the two proposed activity sites and the number of times the proposed activity would occur, the Navy estimates that a total of 750 California sea lions, 500 Pacific harbor seals, and 250 northern elephant seals may be taken by Level B (behavioral) harassment during the course of the proposed activities. These estimates represent less than 1% of the California breeding stock of northern elephant seals and the U.S. stock of California sea lions and represents 1.7% of the California stock of Pacific harbor seals. Based on the analysis contained herein of the likely effects of the specified activity on marine mammals and their habitat, and taking into consideration the implementation of the mitigation and monitoring measures, NMFS preliminarily finds that small numbers of marine mammals will be taken relative to the populations of the affected species or stocks.

Impact on Availability of Affected Species for Taking for Subsistence Uses

There are no relevant subsistence uses of marine mammals implicated by this action. Therefore, NMFS has determined that the total taking of affected species or stocks would not have an unmitigable adverse impact on the availability of such species or stocks for taking for subsistence purposes.

Endangered Species Act (ESA)

No species listed under the ESA are expected to be affected by these activities. Therefore, NMFS has determined that a section 7 consultation under the ESA is not required.

National Environmental Policy Act (NEPA)

In June 2012, the Navy prepared a final EA for the San Nicolas Island Roads and Airfield Repairs Project Naval Base Ventura County, California. This EA is available on our Web site (see ADDRESSES). NMFS will review the Navy EA and either adopt it or prepare its own NEPA document before making a determination on the issuance of an IHA.

Proposed Authorization

As a result of these preliminary determinations, NMFS proposes to issue an IHA to the Navy for the take of marine mammals incidental to conducting a road and airfield repairs project on SNI, California, from August 1 through November 30, 2014, provided the previously mentioned mitigation, monitoring, and reporting requirements are incorporated. The proposed IHA language is provided next.

This section contains a draft of the IHA itself. The wording contained in this section is proposed for inclusion in the IHA (if issued).

1. This IHA is valid from August 1 through November 30, 2014.

2. This IHA is valid only for the Navy's roads and airfield repairs project activities at Daytona and Coast Guard beaches, as described in the Navy's IHA application.

3. Species Authorized and Level of Take.

a. The incidental taking of marine mammals, by Level B harassment only, is limited to the following species:

i. Northern elephant seals—250.

ii. Pacific harbor seals—500.

iii. California sea lions—750.

b. The taking by injury (Level A harassment) serious injury, or death of any of the species listed in condition 3(a) or the taking of any kind of any other species of marine mammal is prohibited and may result in the modification, suspension or revocation of this IHA.

4. The taking of any marine mammal in a manner prohibited under this Authorization must be reported immediately to the Incidental Take Program Supervisor, Permits and Conservation Division, Office of Protected Resources, NMFS or her designee.

5. Mitigation and Monitoring Requirements: The Holder of this Authorization is required to implement the following mitigation and monitoring requirements when conducting the specified activities to achieve the least practicable impact on affected marine mammal species or stocks:

a. All construction activities will occur within the proposed action footprint, and contractors will be provided with maps delineating the area. Stakes will be used to delineate heavy equipment work and driving zones.

b. All construction personnel must attend a mandatory environmental briefing at the start of the work day for work to be performed in pinniped haulout sites, and personnel attendance must be documented.

c. Construction equipment must be inspected before mobilization to ensure no pinnipeds are under or near equipment.

d. If displacement of pinnipeds is conducted, temporary barriers must be used, if necessary, to keep the displaced pinnipeds from re-entering the area during activities.

e. Displacement must be conducted in such a way as to avoid stampedes. Approach of pinnipeds must be conducted gradually.

f. Displacement or flushing of pinnipeds should be avoided, whenever possible, if dependent pups are present.

g. The Navy will suspend activities immediately if an injured marine mammal is found in the vicinity of the proposed activity area and the proposed activities could aggravate its condition further. The incident must be reported to NMFS immediately.

h. No oil, fuel or chemicals will be allowed to discharged to waters of the state. Vessels will be equipped with spill kits and cleanup materials, and operators will be trained in responding to an accidental release of oil, fuel, or chemicals. Offloading equipment will be checked for leaks at the start of beach grading and aggregate offloading each day.

i. Measures will be taken to prevent spillage of aggregate during the barge to barge transfer process. Measures may include but are not limited to, the use of a tarp or other barrier between the two barges, to capture spillage.

j. The Navy shall monitor marine mammal populations and evaluate interactions related to island activities.

k. The project biologist will record activities daily and provide electronic versions of biological monitoring reports at least weekly to NAVFAC Southwest and NBVC.

l. The Navy shall monitor and protect island-wide pinniped breeding and haul-out sites and abide by the conditions for this monitoring program contained in the INRMP.

m. The holder of this IHA is required to conduct monitoring of marine mammals present at the activity sites prior to, during, and for 30 minutes after the cessation of activities. Information to be recorded shall include the following: Species counts (with numbers of pups/juveniles); and Numbers of disturbances, by species and age, according to a three-point scale of intensity including (1) Head orientation in response to disturbance, which may include turning head towards the disturbance, craning head and neck while holding the body rigid in a u-shaped position, or changing from a lying to a sitting position and/or slight movement of less than 1 m; “alert”; (2) Movements in response to or away from disturbance, typically over short distances (1-3 m) and including dramatic changes in direction or speed of locomotion for animals already in motion; “movement”; and (3) All flushes to the water as well as lengthier retreats (> 3 m); “flight”.

6. Reporting: The holder of this IHA is required to submit a draft monitoring report to NMFS Office of Protected Resources within 90 days after the conclusion of the activities. A final report shall be prepared and submitted within 30 days following resolution of any comments on the draft report from NMFS. This report must contain the informational elements described in condition 5(m), at minimum.

7. This IHA may be modified, suspended or withdrawn if the holder fails to abide by the conditions prescribed herein, or if the authorized taking is having more than a negligible impact on the species or stock of affected marine mammals.

8. A copy of this IHA must be in the possession of anyone operating under the authority of this Incidental Harassment Authorization.

9. Penalties and Permit Sanctions: Any person who violates any provision of this Incidental Harassment Authorization is subject to civil and criminal penalties, permit sanctions, and forfeiture as authorized under the MMPA.

Request for Public Comments

NMFS requests comments on our analysis, the draft authorization, and any other aspect of the Notice of Proposed IHA for the Navy's roads and airfield repairs project on SNI, California. Please include with your comments any supporting data or literature citations to help inform our final decision on the Navy's request for an MMPA authorization.

Dated: February 20, 2014.
Perry F. Gayaldo,
Acting Deputy Director, Office of Protected Resources, National Marine Fisheries Service.

[FR Doc. 2014-04196 Filed 2-25-14; 8:45 am]

BILLING CODE 3510-22-P